DEPARTMENT OF ENERGY

Federal Energy Regulatory Commission

[ Project No. 1893-042]

Public Service Company of New Hampshire; Notice of Application Tendered for Filing With the Commission, Soliciting Additional Study Requests, and Establishing Procedural Schedule for Relicensing and a Deadline for Submission of Final Amendments

January 7, 2004.

Take notice that the following hydroelectric license application has been filed with the Commission and is available for public inspection.

a. Type of Application: New major license.

b. Project No.: P-1893-042.

c. Date Filed: December 30, 2003.

d. Applicant: Public Service Company of New Hampshire (PSNH).

e. Name of Project: Merrimack River Project.

f. Location: On the Merrimack River, in Merrimack and Hillsborough counties, New Hampshire. The project does not occupy Federal lands of the United States.

g. Filed Pursuant to: Federal Power Act 16 U.S.C. 791 (a)-825(r).

h. Applicant Contact: James J. Kearns, 780 North Commercial Street, P.O. Box 330, Manchester, NH, (603) 634-2936.

i. FERC Contact: Steve Kartalia, stephen.kartalia@ferc.gov (202) 502-6131.

j. Cooperating Agencies: We are asking Federal, State, and local agencies and Indian tribes with jurisdiction and/or special expertise with respect to environmental issues to cooperate with us in the preparation of the environmental document. Agencies who would like to request cooperating status should follow the instructions for filing comments described in item l below.

k. Pursuant to section 4.32(b)(7) of 18 CFR of the Commission's regulations, if any resource agency, Indian tribe, or person believes that an additional scientific study should be conducted in order to form a factual basis for complete analysis of the application on its merit, the resource agency, Indian tribe, or person must file a request for a study with the Commission not later than 60 days after the application filing and serve a copy of the request on the applicant.

l. Deadline for filing additional study requests and requests for cooperating agency status: February 27, 2004.

All documents (original and eight copies) should be filed with: Magalie R. Salas, Secretary, Federal Energy Regulatory Commission, 888 First Street, NE., Washington, DC 20426.

The Commission's rules of practice require all intervenors filing documents with the Commission to serve a copy of that document on each person on the official service list for the project. Further, if an intervenor files comments or documents with the Commission relating to the merits of an issue that may affect the responsibilities of a particular resource agency, they must also serve a copy of the document on that resource agency.

Additional study requests may be filed electronically via the Internet in lieu of paper. The Commission strongly encourages electronic filing. See 18 CFR 385.2001(a)(1)(iii) and the instructions on the Commission's Web site (http://www.ferc.gov) under the “e-Filing” link.

m. The application is not ready for environmental analysis at this time.

n. Project Description: The project consists of the following three developments:

The Amoskeag Development consists of the following existing facilities: (1) A 29-foot-high, 710-foot-long concrete gravity dam comprised of: (i) a low crest section with 5-foot-high flashboards; and (ii) a high crest section with 3-foot-high flashboards; (2) a 7-mile-long, 478-acre reservoir; (3) a powerhouse, integral with the dam, containing three generating units with a total installed capacity of 16,000 kW; (4) a 415-foot-long, 34.5-kV double circuit transmission line; and (5) other appurtenances.

The Hooksett Development consists of the following existing facilities: (1) A dam comprised of: (i) a 340-foot-long stone masonry section with 2-foot-high flashboards connected to; (ii) a 250-foot-long concrete section with 2-foot-high flashboards; (2) a 15-foot by 20-foot Taintor gate; (3) a 5.5-mile-long, 405-acre reservoir; (4) a powerhouse containing a single generating unit with an installed capacity of 1,600 kW; and (5) other appurtenances.

The Garvins Falls Development consists of the following existing facilities: (1) An 18-foot-high, 550-foot-long concrete and granite gravity dam comprised of: (i) a low crest section with 3-foot-high flashboards; and (ii) a high crest section with 1.2-foot-high flashboards; (2) an 8-mile-long reservoir; (3) a 500-foot-long water canal with a 10-foot-wide waste gate; (4) two powerhouses, each containing two generating units for a total installed capacity of 12,300 kW; (5) a 340-foot-long, 34.5-kV transmission line; and (6) other appurtenances.

o. A copy of the application is on file with the Commission and is available for public inspection in the Public Reference Room. This filing may also be viewed on the Web at http://www.ferc.gov using the “eLibrary” link. Enter the docket number excluding the last threee digits in the docket number field to access the document. For assistance, please contact FERC Online Support at FERCOnlineSupport@ferc.gov or toll free at (866) 208-3676 or for TTY, (202) 502-8659. A copy is also available for inspection and reproduction at the address in item h above.

p. You may also register online at http://www.ferc.gov/esubscribenow.htm to be notified via email of new filings and issuances related to this or other pending projects. For assistance, contact FERC Online Support. To view upcoming FERC events, go to http://www.ferc.gov and click on “View Entire Calendar”.

q. With this notice, we are initiating consultation with the New Hampshire State Historic Preservation Officer (SHPO), as required by 106, National Historic Preservation Act, and the regulations of the Advisory Council on Historic Preservation, 36 CFR 800.4.

r. Procedural Schedule and Final Amendments: The application will be processed according to the following Hydro Licensing Schedule. Revisions to the schedule will be made as appropriate. The Commission staff proposes to issue one environmental assessment rather than issue a draft and final EA. Comments, terms and conditions, recommendations, prescriptions, and reply comments, if any, will be addressed in an EA issued in the summer of 2005.

Issue Acceptance or Deficiency Letter—April 2004

Issue Scoping Document—July 2004

Notice that application is ready for environmental analysis—January 2005

Notice of the availability of the EA—June 2005

Ready for Commission decision on the application—December 2005

Final amendments to the application must be filed with the Commission no later than 30 days from the issuance date of the notice of ready for environmental analysis.

Magalie R. Salas,
Secretary.

[FR Doc. E4-71 Filed 01-14-04; 8:45 am]

BILLING CODE 6717-01-P